DEPARTMENT OF AGRICULTURE

Forest Service

Notice of Proposed New Fee Site; Federal Lands Recreation Enhancement Act

AGENCY: Uinta-Wasatch-Cache National Forest, USDA Forest Service.

ACTION: Notice of proposed new fee site.

SUMMARY: The Uinta-Wasatch-Cache National Forest is proposing to charge fee at The Upper Falls Picnic Site in Provo Canyon, Utah. The site will include a $6.00 Standard Amenity fee that will be charged year-round. Fees are assessed based on the level of amenities and services provided, cost of operations and maintenance, and market assessment. Funds from fees would be used for the continued operation and maintenance and improvements of this picnic area.

An analysis of the nearby County, City, and Federal day-use sites with similar amenities shows that the proposed fees are reasonable and typical of similar sites in the area.

DATES: Comments will be accepted until April 1, 2014. New fees would begin September 1, 2014.

ADDRESSES: Dave Whittekiend, Forest Supervisor, Uinta-Wasatch-Cache National Forest, 857 West south Jordan Parkway, South Jordan, UT 84095-8594.

FOR FURTHER INFORMATION CONTACT: Matthew Lane, Recreation Fee Program Manager; Pleasant Grove Ranger District, 801-796-4891.

Dated: February 24, 2014.
David C. Whittekiend,
Forest Supervisor.

[FR Doc. 2014-04579 Filed 2-28-14; 8:45 am]

BILLING CODE 3410-11-P